DEPARTMENT OF ENERGY

Federal Energy Regulatory Commission

[Docket No. ER00-2485-001, et al.]

New England Power Pool, et al.; Electric Rate and Corporate Regulation Filings

August 18, 2000.

Take notice that the following filings have been made with the Commission:

1. New England Power Pool

[Docket No. ER00-2485-001]

Take notice that on August 11, 2000, the New England Power Pool (NEPOOL), tendered for filing the Sixty-First Agreement Amending the Restated NEPOOL Agreement in response to requirements of the Commission's July 12, 2000 order in Docket No. ER00-2485-000, New England Power Pool, 92 FERC ¶ 61,020 (2000) concerning NEPOOL's proposed System Restoration and Planning Service.

In accordance with the requirements of that order, NEPOOL has noted an effective date of September 1, 1998.

The NEPOOL Participants Committee states that copies of these materials were sent to all persons identified on the service lists in the captioned proceedings, the NEPOOL Participants and the six New England state governors and regulatory commissions.

Comment date: September 1, 2000, in accordance with Standard Paragraph E at the end of this notice.

2. Delmarva Power & Light Company, Conectiv Delmarva Generation, Inc., Atlantic City Electric Company, Conectiv Atlantic Generation, LLC and Conectiv Energy Supply, Inc.

[Docket Nos. ER00-1770-001, ER00-3322-001]

Take notice that on August 14, 2000, Conectiv made a filing on behalf of its subsidiaries Delmarva Power & Light Company (Delmarva), Conectiv Delmarva Generation, Inc. (CDG), Atlantic City Electric Company (Atlantic), Conectiv Atlantic Generation, LLC (CAG) and Conectiv Energy Supply, Inc., (CESI). Through this filing, Conectiv corrects an inadvertent error in the clean and redlined tariff sheets for CESI, CAG and CDG.

Copies of the filing were served upon Delmarva's wholesale requirements customers and the Maryland People's Counsel, Maryland Public Service Commission, Delaware Public Service Commission, New Jersey Public Service Commission and the Virginia State Corporation Commission.

Comment date: September 5, 2000, in accordance with Standard Paragraph E at the end of this notice.

3. Potomac Electric and Power Company

[Docket No. ER00-3418-000]

Take notice that on August 15, 2000, Potomac Electric Power Company (PEPCO), tendered for filing an executed netting agreement between PEPCO and Tractebel Energy Marketing, Inc., (the Counterparty).

A copy of the filing was served upon the Counterparty.

Comment date: September 5, 2000, in accordance with Standard Paragraph E at the end of this notice.

4. Illinois Power Company

[Docket No. ER00-3419-000]

Take notice that, on August 15, 2000, Illinois Power Company (Illinois Power), 500 South 27th Street, Decatur, Illinois 62521, tendered for filing updated specification pages to the existing Service Agreement for Network Integration Transmission Service under which The Cincinnati Gas & Electric Company (CG&E), an Ohio Corporation, PSI Energy, Inc., and Cinergy Services, Inc. (collectively Cinergy Operating Companies) and Cinergy Services, Inc., as agent for and on behalf of the Cinergy Operating Companies. The agreements are based on the Forms of Service Agreement in Illinois Power's Open Access Transmission Tariff and were originally filed in Docket No. ER97-3558-000.

Illinois Power has requested an effective date of July 30, 2000.

Comment date: September 5, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-21701 Filed 8-24-00; 8:45 am]

BILLING CODE 6717-01-P